DEPARTMENT OF HOMELAND SECURITY

U.S. Customs and Border Protection

Customs Broker Permit User Fee Payment for 2021

AGENCY: U.S. Customs and Border Protection, Department of Homeland Security.

ACTION: General notice.

SUMMARY: This document provides notice to customs brokers that the annual user fee that is assessed for each permit held by a broker, whether it may be an individual, partnership, association, or corporation, is due by January 29, 2021. Pursuant to fee adjustments required by the Fixing America's Surface Transportation Act (FAST ACT) and U.S. Customs and Border Protection (CBP) regulations, the annual user fee payable for calendar year 2021 will be $150.33.

DATES: Payment of the 2021 Customs Broker Permit User Fee is due by January 29, 2021.

FOR FURTHER INFORMATION CONTACT: Melba Hubbard, Broker Management Branch, Office of Trade, (202) 325-6986, or melba.hubbard@cbp.dhs.gov.

SUPPLEMENTARY INFORMATION:

Background

Pursuant to section 111.96 of title 19 of the Code of Federal Regulations (19 CFR 111.96(c)), U.S. Customs and Border Protection (CBP) assesses an annual user fee for each customs broker district and national permit held by an individual, partnership, association, or corporation. CBP regulations provide that this fee is payable for each calendar year in each broker district where the broker was issued a permit to do business by the due date. See 19 CFR 24.22(h) and (i)(9). Broker districts are defined in the General Notice entitled, “Geographic Boundaries of Customs Brokerage, Cartage and Lighterage Districts,” published in the Federal Register on March 15, 2000 (65 FR 14011), and corrected, with minor changes, on March 23, 2000 (65 FR 15686) and on April 6, 2000 (65 FR 18151).

Sections 24.22 and 24.23 of title 19 of the Code of Federal Regulations (19 CFR 24.22 and 24.23) provide for and describe the procedures that implement the requirements of the Fixing America's Surface Transportation Act (FAST Act) (Pub. L. 114-94, December 4, 2015). Specifically, paragraph (k) in section 24.22 (19 CFR 24.22(k)) sets forth the methodology to determine the change in inflation as well as the factor by which the fees and limitations will be adjusted, if necessary. The customs broker permit user fee is set forth in Appendix A of part 24. (19 CFR 24.22 Appendix A.) On July 29, 2020, CBP published a Federal Register notice, CBP Dec. 20-14, which among other things, announced that the annual customs broker permit user fee would increase to $150.33 for calendar year 2021. See 85 FR 45646.

As required by 19 CFR 111.96, CBP must provide notice in the Federal Register no later than 60 days before the date that the payment is due for each broker permit. This document notifies customs brokers that for calendar year 2021, the due date for payment of the user fee is January 29, 2021.

Dated: October 22, 2020.
Brenda B. Smith,
Executive Assistant Commissioner, Office of Trade.

[FR Doc. 2020-23831 Filed 10-27-20; 8:45 am]

BILLING CODE 9111-14-P